DEPARTMENT OF HEALTH AND HUMAN SERVICES

Centers for Disease Control and Prevention

[60Day-14-14VL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Leroy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Assessing the Adoption and Utility of National Diabetes Education Program (NDEP) Tools and Resources for Healthcare Professionals and Health Education Facilitators—New—National Center for Chronic Disease Prevention and Health Promotion (NCCDPHP), Centers for Disease Control and Prevention (CDC).

Background and Brief Description

Diabetes is one of the nation's leading causes of death and disability. An estimated 25.8 million children and adults (of whom 7.0 million are undiagnosed) have diabetes and are at risk for disabling and life-threatening complications, such as heart attack and stroke, and kidney, eye, and nerve disease. Research shows that Type 2 diabetes, and much of the illness and premature death caused by diabetes, can be prevented or delayed. The National Diabetes Education Program (NDEP) is a joint program of the Centers for Disease Control and Prevention and the National Institutes of Health. The NDEP develops, disseminates, and supports the adoption of evidence-based, culturally and linguistically appropriate tools and resources that emphasize the importance of controlling blood glucose levels, blood pressure, and blood lipids, as well as carrying out other preventive care practices in a timely manner to improve health outcomes and overall quality of life.

In 2012 and 2013, CDC/NDEP collaborated with relevant partners to update two major diabetes education resources: “New Beginnings: A Discussion Guide for Living Well with Diabetes” (hereafter referred to as New Beginnings), and “Working Together to Manage Diabetes: A Guide and Toolkit for Pharmacy, Podiatry, Optometry, and Dentistry” (hereafter referred to as the PPOD Guide and Toolkit). New Beginnings was developed for diabetes educators, health educators, health ministers, lay health workers and others who facilitate discussion groups about diabetes self-management. The discussion guide uses a storytelling approach to facilitate discussions focused on the social-emotional impact of diabetes. Through story-telling, the guide teaches skills related to goal setting, building self-efficacy, managing stress, problem solving, and communication. New Beginnings has been revised to make it a more accessible and flexible resource that can be adapted for use in diabetes self-management education classes and in other settings. The PPOD Guide and Toolkit are targeted to health care providers in pharmacy, podiatry, optometry, and dentistry. The PPOD Guide and Toolkit are designed to promote a collaborative, team-based approach to comprehensive diabetes care. Both resources are being promoted to key target audiences in 2014.

In order to understand how target audiences use the resources and apply the recommended diabetes control strategies, CDC plans to conduct a series of surveys that will assess adoption, use, and satisfaction with the resources. Respondents for the PPOD Guide and toolkit assessment will include health care providers in the private sector, state and local government, and federal government. Respondents for the New Beginnings assessment will include health education facilitators in the private sector and state and local government. CDC will coordinate the information collection and assessment activities with events and opportunities sponsored by professional organizations, and CDC-sponsored Webinars.

Office of Budget and Management (OMB) approval is requested for one year. All information will be collected electronically. Survey findings will be used to guide further improvements to the resources, make adjustments to promotional and educational strategies, and inform CDC's technical assistance related to diabetes education. Participation in the surveys is voluntary and there are no costs to respondents other than their time.

Estimated Annualized Burden Hours
Type of respondents | Form name | Number of respondents | Number of responses per respondent | Average burden per response (in hr) | Total burden (in hr)
Private sector health care providers | PPOD Guide and Toolkit Follow-up Survey | 80 | 1 | 15/60 | 20
State and Local government healthcare providers | PPOD Guide and Toolkit Follow-up Survey | 80 | 1 | 15/60 | 20
Federal Government healthcare providers | PPOD Guide and Toolkit Follow-up Survey | 40 | 1 | 15/60 | 10
Private sector heath education facilitators | New Beginnings Assessment Survey | 700 | 1 | 20/60 | 233
State and local government health education facilitators | New Beginnings Assessment Survey | 100 | 1 | 20/60 | 33
Total |  |  |  |  | 316

Leroy A. Richardson,
Chief, Information Collection Review Office, Office of Scientific Integrity, Office of the Associate Director for Science, Office of the Director, Centers for Disease Control and Prevention.

[FR Doc. 2014-09764 Filed 4-29-14; 8:45 am]

BILLING CODE 4163-18-P